DEPARTMENT OF COMMERCE

National Oceanic and Atmospheric Administration

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will convene a meeting of the Ad Hoc Private Recreational Data Collection Advisory Panel.

DATES: The meeting will convene at 8:30 a.m. and conclude by 4 p.m. on Thursday, May 17, 2012.

ADDRESSES: The meeting will be held at the Gulf of Mexico Fishery Management Council, 2203 N. Lois Avenue, Suite 1100, Tampa, FL 33607; telephone: (813) 348-1630.

Council address: Gulf of Mexico Fishery Management Council, 2203 N. Lois Avenue, Suite 1100, Tampa, FL 33607.

FOR FURTHER INFORMATION CONTACT: Dr. John Froeschke, Fishery Biologist-Statistician; Gulf of Mexico Fishery Management Council; telephone: (813) 348-1630 x235.

SUPPLEMENTARY INFORMATION: The Ad Hoc Private Recreational Data Collection Advisory Panel will meet to discuss mechanisms to improve private recreational fisheries data collection in Gulf of Mexico fisheries. The Panel will help identify methods for improving private recreational angler data collection, potentially using additional data collection programs that would supplement data currently collected through the Marine Recreational Information Program (MRIP). Programs considered must improve the accuracy and timeliness of catch, effort, and discard data for the private boat recreational sector in the Gulf of Mexico. Preferentially, the considered programs should allow participation in the data collection process by private boat recreational anglers. The Advisory Panel will review existing programs and provide recommendations for possible implementation. The meeting will conclude with draft recommendations to be presented to the Gulf of Mexico Fishery Management Council at its June 18—22, 2012 meeting in Tampa, FL.

Copies of the agenda and other related materials can be obtained by calling (813) 348-1630.

Although other non-emergency issues not on the agenda may come before the Advisory Panel for discussion, in accordance with the Magnuson-Stevens Fishery Conservation and Management Act, those issues may not be the subject of formal action during this meeting. Actions of the Advisory Panel will be restricted to those issues specifically identified in the agenda and any issues arising after publication of this notice that require emergency action under Section 305(c) of the Magnuson-Stevens Fishery Conservation and Management Act, provided the public has been notified of the Council's intent to take action to address the emergency.

Special Accommodations

The meeting is physically accessible to people with disabilities. Requests for sign language interpretation or other auxiliary aids should be directed to Kathy Pereira at the Council (see ADDRESSES) at least 5 working days prior to the meeting.

Dated: April 24, 2012.
Tracey L. Thompson,
Acting Director, Office of Sustainable Fisheries, National Marine Fisheries Service.

[FR Doc. 2012-10187 Filed 4-26-12; 8:45 am]

BILLING CODE 3510-22-P